DEPARTMENT OF VETERANS AFFAIRS

Advisory Committee on Homeless Veterans; Notice of Meeting

The Department of Veterans Affairs (VA) gives notice under the Federal Advisory Committee Act that a meeting of the Advisory Committee on Homeless Veterans will be held September 26-27, 2018. The meeting sessions will take place at the War Memorial, 401 Van Ness Avenue, San Francisco, CA 94102. Sessions are open to the public, except when the Committee is conducting tours of homeless facilities, participating in off-site events, and participating in workgroup sessions. Tours of homeless facilities are closed, to protect Veterans' privacy and personal information.

The purpose of the Committee is to provide the Secretary of Veterans Affairs with an on-going assessment of the effectiveness of the policies, organizational structures, and services of VA in assisting Veterans at-risk and experiencing homelessness. The Committee shall assemble and review information related to the needs of homeless Veterans and provide advice on the most appropriate means of providing assistance to that subset of the Veteran population. The Committee will make recommendations to the Secretary regarding such activities.

On Wednesday, September 26, 2018, the Committee will convene an open session at the War Memorial, 401 Van Ness Avenue, San Francisco, CA 94102, from 8:00 a.m. to 5:00 p.m. (Pacific Standard Time—“PST”). The agenda will include briefings from officials at VA and other agencies regarding services for homeless Veterans. On Thursday, September 27, 2018, from 8:00 a.m. to 1:30 p.m. (PST), the Committee will convene closed sessions, as it tours homeless facilities at Stanford Hotel—250 Kearny Street San Francisco, CA 94108 and the Navigation Center—15th & Mission Streets, San Francisco, CA 94103.

Tours of homeless facilities are closed, to protect Veterans' privacy and personal information. The meeting sessions on Thursday, September 27, 2018 are open to the public from 12:30 p.m. to 2:45 p.m. (PST). The agenda include briefings from officials at VA and other agencies. The Committee will also receive a briefing on the annual report of the Advisory Committee on Homeless Veterans and will then discuss topics for its upcoming annual report and recommendations to the Secretary of Veterans Affairs.

No time will be allocated at this meeting for receiving oral presentations from the public. Interested parties should provide written comments on issues affecting homeless Veterans for review by the Committee to Mr. Anthony Love, Designated Federal Officer, VHA Homeless Programs Office (10NC1), Department of Veterans Affairs, 811 Vermont Avenue NW, Washington, DC 20420, or via email at Anthony.Love@va.gov.

Members of the public who wish to attend should contact Leisa Davis and/or Daniella Waitschies of the Veterans Health Administration, Homeless Programs Office no later than August 24, 2018, at Leisa.Davis@va.gov (202) 632-8588 or Daniella.Waitschies@va.gov (909) 649-1148 to provide their name, professional affiliation, address, and phone number. There will also be a call-in number at 1-800-767-1750; Access Code: 50653#. Attendees who require reasonable accommodation should state so in their requests.

Dated: August 15, 2018.
Jelessa M. Burney,
Federal Advisory Committee Management Officer.

[FR Doc. 2018-17885 Filed 8-17-18; 8:45 am]

BILLING CODE P